BUREAU OF CONSUMER FINANCIAL PROTECTION

12 CFR Part 1005

[Docket No. CFPB-2014-0008]

RIN 3170-AA45

Electronic Fund Transfers (Regulation E)

AGENCY: Bureau of Consumer Financial Protection.

ACTION: Proposed rule; extension of comment period.

SUMMARY: On April 25, 2014, the Bureau of Consumer Financial Protection (Bureau) published in the Federal Register a Notice of Proposed Rulemaking proposing amendments to certain requirements set forth in subpart B of Regulation E related to remittance transfers (Remittance Proposal). The Remittance Proposal allowed a 30-day comment period that will end on May 27, 2014. To allow interested persons additional time to consider and submit their responses, the Bureau has determined that an extension of the comment period until June 6, 2014, is appropriate.

DATES: The comment period for the Remittance Proposal published April 25, 2014, at 79 FR 23233, is extended. Responses must now be received on or before June 6, 2014.

ADDRESSES: You may submit comments, identified by Docket No. CFPB-2014-0008 or RIN 3170-AA45, by any of the following methods:

• Electronic: http://www.regulations.gov. Follow the instructions for submitting comments.

• Mail/Hand Delivery/Courier: Monica Jackson, Office of the Executive Secretary, Consumer Financial Protection Bureau, 1700 G Street NW., Washington, DC 20552.

Instructions: All submissions should include the agency name and docket number or Regulatory Information Number (RIN) for this rulemaking. Because paper mail in the Washington, DC area and at the Bureau is subject to delay, commenters are encouraged to submit comments electronically. In general, all comments received will be posted without change to http://www.regulations.gov. In addition, comments will be available for public inspection and copying at 1700 G Street NW., Washington, DC 20552, on official business days between the hours of 10 a.m. and 5 p.m. Eastern Time. You can make an appointment to inspect the documents by telephoning (202) 435-7275.

All comments, including attachments and other supporting materials, will become part of the public record and subject to public disclosure. Sensitive personal information, such as account numbers or Social Security numbers, should not be included. Comments generally will not be edited to remove any identifying or contact information.

FOR FURTHER INFORMATION CONTACT: For general inquiries, submission process questions, or any additional information, please contact Monica Jackson, Office of the Executive Secretary, 202-435-7275.

SUPPLEMENTARY INFORMATION: On April 15, 2014, the Bureau issued the Remittance Proposal. The Remittance Proposal was published in the Federal Register on April 25, 2014. The Remittance Proposal seeks comment, data and information from the public about proposed amendments to certain disclosure and error resolution requirements set forth in subpart B of Regulation E, which implements the Electronic Fund Transfers Act. Among other clarifying amendments and technical corrections, the Remittance Proposal would extend a temporary provision that permits insured institutions to estimate certain pricing disclosures pursuant to section 1073 of the Dodd-Frank Wall Street Reform and Consumer Protection Act. Absent further action by the Bureau, that exception expires on July 21, 2015.

The comment period on the Remittance Proposal was to close on May 27, 2014.

The Bureau has received a number of oral and written requests from industry trade groups asking that the Bureau extend the Remittance Proposal comment period. The requests indicated that additional time would enable interested parties to more thoroughly evaluate and respond to the specific issues raised in the proposal.

The Bureau balances interested parties' desire to have additional time to consider the issues raised in the Remittance Proposal, gather data, and prepare their responses, with the need to provide industry and consumers with certainty and ample time to plan in advance of July 21, 2015, the date by which, absent further action by the Bureau, the temporary exception is set to expire. Accordingly, the Bureau determines an extension of the comment period is appropriate and is extending the period allotted for comments received pursuant to the Remittance Proposal for 10 additional days. The comment period will now close on June 6, 2014.

Dated: May 12, 2014.
Richard Cordray,
Director, Bureau of Consumer Financial Protection.

[FR Doc. 2014-11421 Filed 5-15-14; 8:45 am]

BILLING CODE 4810-AM-P